DEPARTMENT OF LABOR

Mine Safety and Health Administration

30 CFR Part 57

RIN 1219-AB29

Diesel Particulate Matter Exposure of Underground Metal and Nonmetal Miners

AGENCY: Mine Safety and Health Administration (MSHA), Labor.

ACTION: Proposed rule; correction.

SUMMARY: This document corrects printing and other errors in the preamble to a proposed rule published in the Federal Register of August 14, 2003 (68 FR 48668) regarding diesel particulate matter exposure in underground metal and nonmetal mines.

FOR FURTHER INFORMATION CONTACT: Marvin W. Nichols, Jr., Director, Office of Standards, Regulations, and Variances, MSHA, 1100 Wilson Blvd., Room 2350, Arlington, Virginia 22209-3939, Nichols.Marvin@dol.gov, (202) 693-9440 (telephone), or (202) 693-9441 (facsimile).

Correction

In proposed rule FR Doc. 03-20190, beginning on page 48668 in the issue of August 14, 2003, make the following corrections:

1. On page 48669, in the first column, in the fourth paragraph, the date “October 7, 2003” is corrected to read “October 14, 2003.”

2. On page 48676, in Chart V-3 at the top of the page, the term “400 μg/m3” in the label of the x-axis is corrected to read “400 μg/m³”.

3. On page 48678, at the top of the third column, the word “avoided” is corrected to read “voided”.

4. On page 48678, in Chart V-5 beginning in the middle of the page, the term “ μg/m3” in the label of the y-axis is corrected to read “ μg/m³”.

5. On page 48683, in the title of Table VI-2 at the bottom of the page, the term “μG/M³” is corrected to read “μg/m³”.

6. On page 48684, in the second column, in the first paragraph, in the last sentence, the term “200DPM” is corrected to read “200DPM”.

7. On page 48684, in the third column, in the last sentence of the first paragraph, the term “Tables VI-7 and VI-8” is corrected to read “Tables VI-1 and VI-2”.

8. On page 48688, in Table VI-4 at the top of the page, the term “μG/M³” appearing twice the title is corrected to read “μg/m³”.

9. On page 48689, in the continuation of Table VI-5, under the column heading “Key results,” the term “exposure_100” in the first sentence is corrected to read “exposure equal to or greater than 100”.

10. On page 48690, in Table VI-7 at the top of the page, in the column labeled “Key Results,” the third entry is corrected to read “After adjustment for other risk factors and potential confounders, using a variety of statistical methods, fine particulate (PM2.5) exposures were significantly associated with cardiopulmonary mortality (and also with lung cancer).”

11. On page 48690, in Table VII-8 beginning in the middle of the page, in the table's title on this page and in the continuation on page 48691, the term “Table VII.-8” is corrected to read “Table VI-8” and the word “Article” is corrected to read “Articles”; in the column labeled “Description,” in the last sentence of the second entry, the term “NO²” is corrected to read “NO2”; and in the column labeled “Key results,” in the third entry, the word “cofounders” is corrected to read “confounders” and the term “10 g/m³” is corrected to read “10 μg/m³”.

12. On page 48691, in Table VI-8 beginning in the middle of the page, in the table's title, the term “Table VI-8” is corrected to read “Table VI-9”; in the column labeled “Key results”, the term “polynuclear aromatic engine compounds” in the second entry is corrected to read “polynuclear aromatic compounds”.

13. On page 48692, in the continuation of Table VI-8, the term “Table VI-8” in the title is corrected to read “Table VI-9”; in the column labeled “Description,” in the third entry, the term “PM2.5 (fine PM) and PM2.5-10” is corrected to read “PM2.5 (fine PM) and PM2.5-10”, and in the sixth entry, the term “100 μg/m3 or 3 mg/m3” is corrected to read “100 μg/m³ or 3 mg/m³”; in the column labeled “Key results,” in the last entry at the bottom of the page, the term “DMP” is corrected to read “DPM” and the term “reactivity/” is corrected to read “reactivity/responsiveness”; and in the column labeled “Agent(s) of toxicity,” in the sixth entry, the term “SO2 and NO2” is corrected to read “SO2 and NO2”.

14. On page 48693, in the continuation of Table VI-8 at the top of the page, the term “Table VI-8” in the title is corrected to read “Table VI-9”; in the entry in the column labeled “Key results”, the word “Thio” is corrected to read “Thiol”; and the key directly beneath the table is deleted.

15. On page 48693, in Table VI-9 in the middle of the page, the term “Table VI-9” in the title is corrected to read “Table VI-10” and the key directly beneath the table is deleted.

16. On page 48694, in the second column, in the first paragraph, in the legal citation after the first full sentence, the term “647 F.2d 1273” is corrected to read “647 F.2d 1189, 1273”, and in the forth full sentence the term “feasible when Aif through” is corrected to read “feasible “if through”.

17. On page 48694, in the second column, in the second paragraph, the term “647 F.2d 1164” is corrected to read “647 F.2d 1189, 1266 (D.C. Cir. 1981)”.

18. On page 48705, in the “Summary of Costs and Benefits” section in the first column, in the second paragraph, the first sentence is corrected to read “The proposed rule would result in a net cost of $4,539 per year.”; in the third sentence, the term “cost savings of $86” is corrected to read “cost of $25”; and the fifth sentence is corrected to read “The cost or cost savings (negative cost) per mine for mines in these three size classes would be −$34, $58 and $58, respectively.”

19. On page 48705, in the second column, under the section-by-section discussion of the proposed rule, in the first paragraph, in the third sentence, the term “308TC μg/m³ is corrected to read 308EC μg/m3” .

20. On page 48714, in the third column, the term “AMSHA” in the second sentence of the first paragraph is corrected to read “”MSHA”.

21. On page 48719, in the alphabetical list of references, the reference listed as “Holgate, et al., 2002.” in the second column is corrected to read “Holgate, Stephen T., et al., “Health Effects of Acute Exposure to Air Pollution, Part I: Healthy and Asthmatic Subjects Exposed to Diesel Exhaust”, Health Effects Institute Research Report No. 112 (Partial Preprint Version), December 2002.”, and the references listed as “Patton and Lopez, 2002.” and “Polosa, et al., 2003 (Italian).” are deleted.

Dated: August 26, 2003.
Dave D. Lauriski,
Assistant Secretary of Labor for Mine Safety and Health.

[FR Doc. 03-22320 Filed 8-29-03; 8:45 am]

BILLING CODE 4510-43-P